DEPARTMENT OF COMMERCE

International Trade Administration

Import Administration

[A-552-801]

Certain Frozen Fish Fillets From Vietnam: Extension of Time Limit for Final Results of Changed Circumstances Review

DATES: Effective Date: July 10, 2008.

FOR FURTHER INFORMATION CONTACT: Javier Barrientos, AD/CVD Operations, Office 9, Import Administration, International Trade Administration, U.S. Department of Commerce, 14th Street and Constitution Avenue, NW., Washington, DC 20230; telephone: (202) 482-2243.

SUPPLEMENTARY INFORMATION: On August 10, 2007, the Department of Commerce (the Department) issued its preliminary results for the changed circumstances review of the antidumping duty order of certain frozen fish fillets from Vietnam. See Certain Frozen Fish Fillets from Vietnam: Notice of Initiation and Preliminary Results of Changed Circumstances Review, 72 FR 46604 (August 21, 2007) (Preliminary Results). On May 6, 2008, the Department published a notice extending the time limits for the changed circumstances review of the antidumping duty order of certain frozen fish fillets from Vietnam. See Certain Frozen Fish Fillets from Vietnam: Extension of Time Limit for Final Results of Changed Circumstances Review, 73 FR 28100 (May 15, 2008) (“First Extension”). The current deadline for the final results of this review is July 7, 2008.

Extension of Time Limits for Final Results

In our Preliminary Results, we indicated we would issue the final results in the instant review within 270 days after the date on which the changed circumstances review is initiated. In the First Extension, we stated that it was not practicable to complete the review within this time period. Accordingly, pursuant to 19 CFR 351.302(b), we extended the time limit by 60 days.

The Department finds that it is not practicable to complete this review by the current deadline. Subsequent to the Preliminary Results, and receipt of Vinh Hoan Co., Ltd./Corp.'s and Petitioners' (the Catfish Farmers of America and individual U.S. catfish processors) case briefs, the Department requested and received new information from Vinh Hoan on which the Department provided interested parties an opportunity to comment. Based on Vinh Hoan's submission and parties' additional comments, the Department intends to request additional information from Vinh Hoan. Consequently, in accordance with 19 CFR 351.302(b), the Department is extending the time period for issuing the final results in the instant review by 90 days. Therefore, the final results will be due no later than October 5, 2008. As October 5, 2008, falls on a Sunday, our final results will be issued no later than Monday, October 6, 2008.

This notice is published in accordance with section 771(i) of the Tariff Act of 1930, as amended.

Dated: July 2, 2008.
Gary S. Taverman,
Acting Deputy Assistant Secretary for Import Administration.

[FR Doc. E8-15760 Filed 7-9-08; 8:45 am]

BILLING CODE 3610-DS-P